DEPARTMENT OF COMMERCE

International Trade Administration

Clean Technologies Mission to India

AGENCY: International Trade Administration, Department of Commerce.

ACTION: Notice.

Mission Description

The United States Department of Commerce (DOC) International Trade Administration (ITA), U.S. and Foreign Commercial Service (CS) is organizing a Clean Technologies Trade Mission to India on November 7-11, 2011 to be led by Under Secretary for International Trade Francisco Sánchez. India, one of the world's fastest growing economies, presents lucrative opportunities for U.S. companies due to a critical need for significant investments in clean energy and environmental technologies. The trade mission will target a broad range of clean technologies including wind, hydro, waste-to-energy, solar power generation and clean coal; energy efficiency including smart grids; and environmental technologies such as water and waste water treatment and solid waste management. This mission will contribute to the National Export Initiative (NEI) and the Growth in Emerging Metropolitan Sectors (GEMS) program and delivers on the CS mission of assisting U.S. businesses in exporting, entering new markets, and enhancing U.S. exports in the clean technology sector in India's emerging regions.

The mission will help participating firms gain market insights, make industry contacts, solidify business strategies, and advance specific projects, with the goal of increasing U.S. exports to India. The mission will include one-on-one business appointments with pre-screened potential buyers, agents, distributors and joint venture partners; meeting with national and regional government officials; and networking events. Participating in an official U.S. industry delegation, rather than traveling to India on their own, will enhance the companies' ability to secure meetings in India. Additionally, in Hyderabad, the U.S.-based solar companies will attend SOLARCON India 2011, a DOC-certified trade show where Commercial Service India is organizing a U.S. pavilion, which will allow delegates to tap into a wealth of local contacts for matchmaking and participate in industry seminars that include public speaking opportunities. In Hyderabad, there will be a separate track of matchmaking and other activities for non-solar companies who would not be participating in SOLARCON.

Commercial Setting

India, one of the world's fastest growing economies, presents lucrative opportunities for U.S. companies that offer products and services in the clean technologies industries. India is seeking to diversify and grow its energy sources and reduce carbon emissions in the context of sustained economic expansion. With the rapid growth of the Indian economy, the demand for clean technologies in the country is rising exponentially, and the development of renewable energy resources and deployment of environment technologies that reduce greenhouse gas emissions is a high priority for the Government of India (GOI).

Renewable Energy: The Indian renewable energy market is estimated to be worth over $17 billion this year and is growing at an annual rate of 15%. Wind, hydro, solar, biomass, and waste-to-energy all have huge potential. Only 19,973 MW of total renewable energy potential estimated at 200,000 MW has been tapped in India thus far leaving a huge opportunity for potential future market growth.

Demand for power in India has been continuously increasing due to rapid development and industrialization. The demand/availability gap remains the major concern for the Indian energy sector, threatening to slow the growth of the Indian economy. To keep its economic growth at its current pace, India needs to add 150 GW of power capacity at an investment of $200 billion over the next five years. The Government of India (GOI) wants to tackle the existing shortfall in the energy supply increasingly through the generation of renewable energies. India today stands among the top four countries in the world in terms of renewable energy capacity and it offers some attractive incentives in this area.

• Wind: U.S. companies can take advantage of India's wind energy market, which is one of the world's largest as India imports wind turbines, windmill blades, wind battery chargers, wind energy converters, etc.

• Hydro: The hydropower generation potential for India is 300,000 MW out of which only 145,000 MW can be exploited due to limited resources and difficult geographical terrain. The GOI has firmed up an investment of $20 billion for the development of hydro projects by 2020.

• Biomass: The GOI announced a target of creating 10,000 MW of biomass power generation by 2020 and will shortly release a biomass power policy to chart out a roadmap for supporting biomass generated power.

• Waste-to-Energy: The GOI has developed a National Master Plan for Development of Waste-to-Energy in India. The GOI estimates that the potential to generate power from municipal solid waste will more than double by 2020, while the potential from industrial waste is likely to increase by more than 50%. In a country with high population density and limited landfill capacity, waste to energy power generation is a major priority.

• Solar: India has embarked upon a $19 billion plan to produce 20GW of solar power by 2022.

Energy Efficiency: The market potential for industrial energy efficiency products and services is projected to be approximately $27 billion in 2018; the potential for green buildings was estimated to be over $3 billion in 2011.

• Smart Grids: At present the smart grid market in India is at a nascent stage but is projected to grow rapidly with plans to install several million smart meters in the next few years.

• Green Buildings: India has emerged as one of the world's top destinations for green buildings and has implemented a number of home-rating schemes and building codes, which open up a wide range of opportunities for U.S. companies in the energy efficiency sector.

Environmental Technologies: The environmental technologies market in India is estimated at approximately $9 billion per year—with an annual growth rate of 15%. Growing environmental consciousness, increasing compliance and enforcement of environmental legislation, the availability of finance and rising domestic demand due to the rapid growth in urban population has led to the deployment of clean technologies in the country. The Indian Government has initiated many new projects for improving environmental conditions and reducing pollution ($12.4 billion is reserved for improvement of waste management, development of urban areas, water and sanitation, etc., in 63 cities nationwide.) The booming Indian economy, rapid industrialization, and urbanization have all contributed to severe environmental damage which creates opportunities for U.S. firms that can offer technology solutions to these challenges.

Water and Waste Water Management: The Indian Water Resources Ministry plans to invest $50 billion in the water sector over the next 5 years.

• The $1.2 billion Indian water and waste water treatment market is expected to grow at a rate of over 10% in the next few years.

• The U.S. accounts for over 40% of the total Indian imports into this sector.

• The current market for industrial and waste water treatment is estimated at $640 million and drinking water purification at $425 million. Both sectors are expected to witness tremendous growth in the near and medium-term.

• The $280 million bottled water market is expected to reach $600 million by 2012.

• The $40 million market for packaged waste water treatment plants is expected to reach $60 million by 2013.

Clean Coal Technologies: India is making significant effort in adopting international technology and adding new clean coal infrastructure in the three categories of coal beneficiation, coal combustion and coal conversion. Indian coal is predominantly low grade and high in ash contents. India is targeting a coal beneficiation capacity of 810 million tons by 2025, an eight-fold increase from the current installed capacity. Improved coal combustion technology upgrade efforts include supercritical boiler technology and integrated gas combined cycle (IGCC) using synthesis gas for thermal power plants. Coal conversion technologies being targeted are underground coal gasification and coal to liquid projects. Additional focus areas are capturing methane from coal bed/coal mine/ventilation air for commercial exploitation. The GOI is collaborating with several international agencies and countries to explore the best available technology options in each of the above areas.

New Delhi is the seat of the national government and the principal end-user of clean-energy technologies in India. From New Delhi, the national government issues directives on nationwide deployment of clean and renewable energy. New Delhi is also one of India's largest metropolitan areas and is in need of increased power generation and improved environmental quality. The city's size makes it particularly attractive market for large investments in clean energy generated by solid and liquid wastes.

Hyderabad is a key hub for clean technologies in India. It is the home for the prestigious Confederation of Indian Industry's (CII) green business center and many leading Indian energy firms, many of whom have partnered with American companies. One of India's most significant solar energy trade shows—SOLARCON will take place in Hyderabad in November 2011. Renewable energy, waste to energy, and alternative fuels are all pro-actively supported by the local government through a variety of policy measures and projects. Hyderabad is centrally located and one of India's fastest growing metropolitan areas.

Ahmedabad is the 7th largest city in India, and is located in Gujarat which is one of the leading industrialized states in India. Ahmedabad is the second largest industrial center in western India after Mumbai and is a base for the chemical, textile, pharmaceutical and food processing industries. The region offers strong business prospects to U.S. companies in the clean energy sector, particularly in solar sector as the government of the state has recently announced a progressive policy with respect to industrial energy efficiency. Ahmedabad has been identified by CS India as one of the key second tier cities in India under the `Growth in Emerging Metropolitan Sectors' (GEMS) program which is aimed at building commercial ties between the U.S. and India's emerging cities and states.

Mission Goals

The goal of the Clean Technologies Trade Mission to India is to promote the export of U.S. goods and services by: (1) Introducing U.S. companies to industry representatives and potential clients and partners; and (2) introducing U.S. companies to Indian government officials in India to learn about policy initiatives that will impact the implementation of energy generation, energy conservation and environmental projects.

Mission Scenario

In New Delhi, the U.S. mission members will participate in an Embassy briefing, meet with GOI officials and take part in one-on-one business appointments with private-sector organizations. In addition, they will enjoy a networking event with industry leaders and multipliers. In Hyderabad, all of the delegates will attend a networking reception and have customized one-on-one business appointments. In addition, solar companies will participate in SOLARCON 2011 where they can showcase their technologies and meet with potential partners and attend the trade show reception. In Ahmedabad, mission delegates will participate in one-on-one business appointments and networking activities.

Matchmaking efforts will involve multipliers such as the Confederation of Indian Industries (CII), Federation of Indian Chamber of Commerce and Industry (FICCI), and the American Chamber of Commerce in India. U.S. participants will be counseled before and after the mission by CS India staff and other federal agencies actively involved in clean technology trade promotion activities in India.

Proposed Time table

Monday, November 7, Day 1

New Delhi

Welcome briefing by the U.S. Embassy

One-on-one business appointments

Ministry meetings

Networking reception

Tuesday, November 8, Day 2

Depart for Hyderabad

Welcome briefing and networking reception in honor of all the mission delegates

Wednesday, November 9, Day 3

Hyderabad

Participation in SOLARCON Show (Select Solar mission delegates)

One-on-one business appointments (All mission delegates)

SOLARCON reception (Solar mission delegates)

Thursday, November 10, Day 4

Depart for Ahmedabad

Networking welcome dinner

Friday, November 11, Day 5

Ahmedabad

One-on-one business appointments

Early evening reception

Departure for the U.S. via Mumbai (early morning of Saturday, November 12)

Participation Requirements

All parties interested in participating in the trade mission must complete and submit an application package for consideration by the DOC. All applicants will be evaluated on their ability to meet certain conditions and best satisfy the selection criteria as outlined below. A minimum of 15 and maximum of 20 companies will be selected to participate in the mission from the applicant pool. U.S. companies already doing business with India as well as U.S. companies seeking to enter to the Indian market for the first time may apply.

Fees and Expenses

After a company has been selected to participate on the mission, a payment to the DOC in the form of a participation fee is required. The participation fee will be $5,000 for large firms and $4,500 for a small- or medium-sized enterprise (SME) or small organization, which will cover one representative.¹ The fee for an additional representative (SME or large) is $750.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Participants in the SOLARCON trade show in Hyderabad will pay show-related expenses directly to the show organizer.

Expenses for travel, lodging, meals, and incidentals will be the responsibility of each mission participant. Delegation members will be able to take advantage of U.S. Embassy rates for hotel rooms.

Conditions for Participation

An applicant must submit a completed and signed mission application and supplemental application materials, including adequate information on the company's products and/or services, primary market objectives, and goals for participation. If the Department of Commerce receives an incomplete application, the Department may reject the application, request additional information, or take the lack of information into account when evaluating the applications.

Each applicant must also certify that the products and services it seeks to export through the mission are either produced in the United States, or, if not, marketed under the name of a U.S. firm and have at least 51 percent U.S. content of the value of the finished product or service.

Selection Criteria for Participation: Selection will be based on the following criteria:

• Suitability of the company's products or services to the market

• Applicant's potential for business in India and in the region, including likelihood of exports resulting from the mission

• Consistency of the applicant's goals and objectives with the stated scope of the mission

Diversity of company size, sector or subsector, and location may also be considered during the review process.

Referrals from political organizations and any documents containing references to partisan political activities (including political contributions) will be removed from an applicant's submission and not considered during the selection process.

Selection Timeline

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. Recruitment for the mission will begin immediately and conclude no later than September 9, 2011. Applications received after September 9, 2011 will be considered only if space and scheduling constraints permit.

Contacts

Anne Novak, U.S. Commercial Service, Washington, DC, Tel: (202) 262-7764, E-mail: Anne.Novak@trade.gov.

Preetha Nair, U.S. Commercial Service, New Delhi, India, Tel: +91-11-23472347, E-mail: Preetha.Nair@trade.gov.

Elnora Moye,
U.S. Department of Commerce, Commercial Service Trade Mission Program.

[FR Doc. 2011-14371 Filed 6-9-11; 8:45 am]

BILLING CODE 3510-FP-P